COMMISSION ON CIVIL RIGHTS

Sunshine Act Meeting Notice

AGENCY: United States Commission on Civil Rights.

ACTION: Notice of Commission Business Meeting.

DATES: Date and Time: Friday, December 11, 2015; 2:00 p.m. EST.

ADDRESSES: Place: 1331 Pennsylvania Ave. NW., Suite 1150, Washington, DC.

FOR FURTHER INFORMATION CONTACT: Lenore Ostrowsky, Acting Chief, Public Affairs Unit (202) 376-8591.

Hearing-impaired persons who will attend the briefing and require the services of a sign language interpreter should contact Pamela Dunston at (202) 376-8105 or at signlanguage@usccr.gov at least seven business days before the scheduled date of the meeting.

SUPPLEMENTARY INFORMATION:

Meeting Agenda

This meeting is open to the public.

I. Approval of Agenda

II. Program Planning

• Discussion and vote on part B findings and recommendations for Peaceful Coexistence report

• Presentation of town hall budget estimates for the environmental justice report

• Discussion and vote on town hall meeting plan

• Discussion on plan for revision of Native American “Quiet Crisis” and the report on the Effect of Undocumented Immigrants on African American Employment

III. Management and Operations

• Mississippi SAC Chair Report

• Staff Director Report

IV. Adjourn Meeting

Dated: December 3, 2015.
David Mussatt,
Regional Programs Unit Chief, U.S. Commission on Civil Rights.

[FR Doc. 2015-30857 Filed 12-3-15; 11:15 am]

BILLING CODE 6335-01-P